DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: April 1-2, 2004.

Time(s) of Meeting: 0800-1700, April 1, 2004, 0800-1700, April 2, 2004.

Place: Arlington, VA.

Agenda: The FCS Urban Operations Study and Force Balance Study of the Army Science Board FY04 Summer Studies are holding a joint plenary on April 1-2, 2004. The meetings will be held at the Crystal City Sheraton in Arlington, VA and will begin at 0800 hrs on the 1st and will end at approximately 1700 hrs on the 2nd. For further information on the FCS Urban Operations Study, please contact MAJ Al Visconti at (865) 574-8798 or e-mail at viscontiaj@ornl.gov. For the Force Balance Study, please contact MAJ Al Klee at (703) 604-2212 or e-mail at alvin.klee@hqda.army.mil.

Wayne Joyner,
Program Support Specialist, Army Science Board.

[FR Doc. 04-6807 Filed 3-25-04; 8:45 am]

BILLING CODE 3710-08-M